DEPARTMENT OF STATE

[Delegation of Authority No. 395]

Delegation of Authority Under 5 U.S.C. 5376 to the Inspector General for the U.S. Department of State

By virtue of the authority vested in me as Secretary of State, including Section 1 of the Department of State Basic Authorities Act, as amended (22 U.S.C. 2651a), I hereby delegate to the Inspector General for the U.S. Department of State, to the extent authorized by law, the authority under 5 U.S.C. 5376 to determine and adjust pay for Senior Professional positions.

This delegation of authority is not intended to revoke, amend, or otherwise affect the validity of any other delegation of authority.

Any act, executive order, regulation, or procedure subject to, or affected by, this delegation shall be deemed to be such act, executive order, regulation, or procedure as amended from time to time.

Notwithstanding this delegation of authority, the Secretary may at any time exercise any authority or function delegated by this delegation of authority.

This delegation of authority shall be published in the Federal Register.

Dated: April 18, 2016.
John F. Kerry,
Secretary of State.

[FR Doc. 2016-11281 Filed 5-11-16; 8:45 am]

BILLING CODE 4710-42-P